DEPARTMENT OF JUSTICE

Notice of Lodging of Proposed Consent Decree Under the Safe Drinking Water Act

On May 21, 2015, the Department of Justice lodged a proposed consent decree with the United States District Court for the Southern District of New York in the lawsuit entitled United States v. County of Westchester, New York, Civil Action No. 13 Civ. 5475 (NSR).

The United States filed this lawsuit under the Safe Drinking Water Act (the “Act”). The complaint alleges that the County of Westchester, New York (the “Defendant”) violated the Act by failing to ensure that Westchester County Water District No. 1 (“Water District No. 1”) was in compliance with the Long Term 2 Enhanced Surface Water Treatment Rule (the “Enhanced Water Treatment Rule”), a regulation promulgated pursuant to the Act. The Enhanced Water Treatment Rule required certain public water systems, including Water District No. 1, to implement measures by April 1, 2012 to treat water to prevent Cryptosporidium contamination.

The proposed consent decree requires Defendant to perform injunctive relief to bring Water District No. 1 into compliance with the Enhanced Water Treatment Rule. While the injunctive relief is being completed, the proposed consent decree requires Defendant to perform interim measures to provide water that is in compliance with the Enhanced Water Treatment Rule to portions of Water District No. 1 for portions of each year. In addition, the proposed consent decree requires Defendant to pay a civil penalty of $1,108,771, and to perform three supplemental environmental projects (“SEPs”) for the benefit of the residents of Water District No. 1. The SEPs, which have a combined value of $691,229, require Defendant to: (i) Increase the number of days during which the unused pharmaceuticals of residents of Water District No. 1 will be accepted at Defendant's Household Materials Recovery Facility or at other designated sites; (ii) increase the number of days during which the unused hazardous household chemicals of residents of Water District No. 1 will be accepted at Defendant's Household Materials Recovery Facility or at other designated sites; and (iii) purchase at least $100,000 worth of 55-gallon rain barrels for residential collection and storage of roof rainwater runoff, to be distributed to residents of Water District No. 1. The Consent Decree resolves the claims of the United States for the violations alleged in the complaint through the date of lodging of the proposed consent decree.

The publication of this notice opens a period for public comment on the proposed consent decree. Comments should be addressed to the Assistant Attorney General, Environment and Natural Resources Division, and should refer to United States v. County of Westchester, New York, 13 Civ. 5475 (NSR), D.J. Ref. No. 90-5-1-1-10536. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed consent decree may be examined and downloaded at this Justice Department Web site: http://www.justice.gov/enrd/consent-decrees. We will provide a paper copy of the proposed consent decree upon written request and payment of reproduction costs. Please mail your request and payment to: Consent Decree Library, U.S. DOJ—ENRD, P.O. Box 7611, Washington, DC 20044-7611.

Please enclose a check or money order for $12.25 (25 cents per page reproduction cost) payable to the United States Treasury.

Maureen Katz,
Assistant Section Chief, Environmental Enforcement Section, Environment and Natural Resources Division.

[FR Doc. 2015-13098 Filed 5-29-15; 8:45 am]

BILLING CODE 4410-15-P